DEPARTMENT OF DEFENSE

Department of the Navy

Notice of Intent To Grant Exclusive Patent License; Star Cyroelectronics

AGENCY: Department of the Navy, DOD.

ACTION: Notice.

SUMMARY: The Department of the Navy hereby gives notice of its intent to grant to Star Cyroelectronics, a revocable, nonassignable, exclusive license in the United States to practice the Government-owned invention described in U.S. Patent No. 6,051,846 entitled “Monolithic Integrated High-Tc Superconductor-Semiconductor Structure” and U.S. Patent No. 6,165,801 entitled “Method for Making a Monolithic Integrated High-Tc Superconductor-Semiconductor Structure”.

DATES: Anyone wishing to object to the granting of this license has (15) days from the date of this notice to file written objections along with supporting evidence, if any.

ADDRESSES: Written objections are to be filed with the Office of Patent Counsel, Space and Naval Warfare Systems Center, Code 20012, 53510 Silvergate Ave., Room 103, San Diego, CA 92152-5765.

FOR FURTHER INFORMATION CONTACT: Mr. James A. Ward, Space and Naval Warfare Systems Center, Code 20012, 53510 Silvergate Ave, Room 103, San Diego, CA 92152-5765, telephone (619) 553-3823.

(Authority: 35 U.S.C. 207, 37 CFR part 404.7(a)).
Dated: June 4, 2003.
E.F. McDonnell,
Major, U.S. Marine Corps, Federal Register Liaison Officer.

[FR Doc. 03-14906 Filed 6-12-03; 8:45 am]

BILLING CODE 3810-FF-P